DEPARTMENT OF TRANSPORTATION

Federal Aviation Administration

14 CFR Part 71

[Docket No. FAA-2010-0605; Airspace Docket No. 10-AGL-10]

Proposed Amendment of Class E Airspace; Kokomo, IN

AGENCY: Federal Aviation Administration (FAA), DOT.

ACTION: Supplemental notice of proposed rulemaking (SNPRM).

SUMMARY: This supplemental notice of proposed rulemaking would expand Class E airspace to include the Regional Health System Heliport, Kokomo, IN. In an NPRM published in the Federal Register August 18, 2010, the FAA proposed to amend controlled airspace at Kokomo Municipal Airport, Kokomo, IN. The FAA has reassessed the proposal to include controlled Class E airspace for new standard instrument approach procedures (SIAP) at the heliport. This action is necessary to further the safety and management of Instrument Flight Rules (IFR) operations in the Kokomo, IN area.

DATES: Comments must be received on or before February 24, 2011.

ADDRESSES: Send comments on this proposal to the U.S. Department of Transportation, Docket Operations, M-30, West Building Ground Floor, Room W12-140, 1200 New Jersey Avenue, SE., Washington, DC 20590; telephone (202) 366-9826. You must identify FAA Docket No. FAA-2010-0605; Airspace Docket No. 10-AGL-10, at the beginning of your comments. You may also submit comments through the Internet at http://www.regulations.gov.

FOR FURTHER INFORMATION CONTACT: Scott Enander, Federal Aviation Administration, Operations Support Group, Central Service Center, 2601 Meacham Blvd., Fort Worth, TX 76137; telephone (817) 321-7716.

SUPPLEMENTARY INFORMATION:

History

On August 18, 2010, the FAA published a NPRM to amend Class E airspace extending upward from 700 feet or more above the surface, at Kokomo Municipal Airport, Kokomo, IN (75 FR 50947). The comment period closed October 4, 2010. No comments were received. Subsequent to publication, the FAA reassessed the proposal so that it would include controlled airspace for new Copter RNAV SIAPs at Regional Health System Heliport, Kokomo, IN. The FAA seeks comments on this SNPRM.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA 2010-0529 and Airspace Docket No. 10-AGL-10) and be submitted in triplicate to the Docket Management System (see ADDRESSES section for address and phone number). You may also submit comments through the Internet at http://www.regulations.gov.

Commenters wishing the FAA to acknowledge receipt of their comments on this action must submit with those comments a self-addressed stamped postcard on which the following statement is made: “Comments to FAA Docket No. FAA-2010-0605 and Airspace Docket No. 10-AGL-10”. The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of SNPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received, and any final disposition in person in the Dockets Office (see the ADDRESSES section for the address and phone number) between 9 a.m. and 5 p.m., Monday through Friday, except Federal holidays. An informal docket may also be examined during normal business hours at the offices of the Central Service Center, Operations Support Group, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

The Supplemental Proposal

The FAA is proposing an amendment to Title 14 Code of Federal Regulations (14 CFR) part 71 by amending Class E airspace extending upward from 700 feet above the surface at Kokomo Municipal Airport, Kokomo, IN. Controlled airspace extending upward from 700 feet above the surface also would be added to accommodate aircraft using the new COPTER RNAV (POINT IN SPACE) standard instrument approach procedures at Regional Health System Heliport, Adjustments to some geographic coordinates in the description, as well as the name change of Logansport Municipal Airport to Logansport/Cass County Airport also would be made and would enhance the safety and management of IFR operations.

Class E airspace designations are published in paragraph 6005, of FAA Order 7400.9U, dated August 18, 2010, and effective September 15, 2010, which is incorporated by reference in 14 CFR 71.1. The Class E airspace designation listed in this document will be published subsequently in this Order.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, would not have a significant economic impact on a substantial number of small entities under the criteria of the Regulatory Flexibility Act.

The FAA's authority to issue rules regarding aviation safety is found in Title 49 of the U.S. Code. Subtitle 1, section 106, describes the authority for the FAA Administrator. Subtitle VII, Aviation Programs, describes in more detail the scope of the agency's authority. This rulemaking is promulgated under the authority described in subtitle VII, part A, subpart I, section 40103. Under that section, the FAA is charged with prescribing regulations to assign the use of the airspace necessary to ensure the safety of aircraft and the efficient use of airspace. This regulation is within the scope of that authority as it would amend controlled airspace in the Kokomo, IN area.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the FAA Order 7400.9U, Airspace Designations and Reporting Points, dated August 18, 2010, and effective September 15, 2010 is amended as follows:

Paragraph 6005 Class E airspace areas extending upward from 700 feet or more above the surface of the earth.

* * * * *

AGL IN E5 Kokomo, IN [Amended]

Kokomo Municipal Airport, IN

(Lat. 40°31′41″ N., long. 86°03′32″ W.)

Grissom Air Reserve Base, IN

(Lat. 40°38′53″ N., long. 86°09′08″ W.)

Grissom Air Reserve Base ILS Localizer Northeast

(Lat. 40°37′59″ N., long. 86°10′18″ W.)

Grissom Air Reserve Base ILS Localizer Southwest

(Lat. 40°39′56″ N., long. 86°07′47″ W.)

Logansport/Cass County Airport, IN

(Lat. 40°42′41″ N., long. 86°22′22″ W.)

Peru Municipal Airport, IN

(Lat. 40°47′09″ N., long. 86°08′47″ W.)

Regional Health System Heliport, IN

Point-In-Space Coordinates

(Lat. 40°26′47″ N., long. 86°08′23″ W.)

That airspace extending upward from 700 feet above the surface within a 7-mile radius of Kokomo Municipal Airport, and within 4 miles each side of the 045° bearing from the airport extending from the 7-mile radius to 10.7 miles northeast of the airport, and within 4 miles each side of the 225° bearing from the airport extending from the 7-mile radius to 10.9 miles southwest of the airport, and within a 7-mile radius of Grissom Air Reserve Base, and within 3.8 miles each side of the Grissom Air Reserve Base ILS Localizer Northeast course extending from the 7-mile radius to 14.5 miles northeast of the airport, and within 2 miles each side of the Grissom Air Reserve Base ILS Localizer Southwest course extending from the 7-mile radius to 14.5 miles southwest of the airport, and within a 7.7-mile radius of Logansport/Cass County Airport, and within a 6.3-mile radius of Peru Municipal Airport, and within a 6-mile radius of the Regional Health System Heliport Point-In-Space coordinates at lat. 40°26′47″ N., long. 86°08′23″ W.

Issued in Fort Worth, Texas, on December 29, 2010.
Roger M. Trevino,
Acting Manager, Operations Support Group, AJV-C2, ATO Central Service Center.

[FR Doc. 2011-210 Filed 1-7-11; 8:45 am]

BILLING CODE 4910-13-P